SMALL BUSINESS ADMINISTRATION

Public Federal Regulatory Enforcement Fairness Hearing; Region III Regulatory Fairness Board

The U.S. Small Business Administration (SBA) Region III Regulatory Fairness Board and the SBA Office of the National Ombudsman will hold a National Regulatory Fairness Hearing on Friday, March 16, 2007, at 10 a.m. The forum will take place at the EPA East Building, Ceremonial Hearing Room, 1201 Constitution Avenue, NW., Room 1153, Washington, DC 20460. The purpose of the meeting is for Business Organizations, Trade Associations, Chambers of Commerce and related organizations serving small business concerns to report experiences regarding unfair or excessive Federal regulatory enforcement issues affecting their members.

For further information, please contact Martin Gold. Martin Gold, SBA, Deputy National Ombudsman, 409 3rd Street, Suite 7125, Washington, DC 20416, phone (202) 205-7549 and fax (202) 401-4432, e-mail: Martin.gold@sba.gov.

For more information, see our Web site at http://www.sba.gov/ombudsman.

Matthew Teague,
Committee Management Officer.

[FR Doc. E7-4378 Filed 3-9-07; 8:45 am]

BILLING CODE 8025-01-P